DEPARTMENT OF VETERANS AFFAIRS

[OMB Control No. 2900-0154]

Agency Information Collection Activity: Application for VA Education Benefits; Application for Family Member To Use Transferred Benefits; Application for VA Benefits Under the National Call to Service Program

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before October 11, 2019.

ADDRESSES: Submit written comments on the collection of information through Federal Docket Management System (FDMS) at www.Regulations.gov or to Nancy J. Kessinger, Veterans Benefits Administration (20M33), Department of Veterans Affairs, 810 Vermont Avenue NW, Washington, DC 20420 or email to Nancy.kessinger@va.gov. Please refer to “OMB Control No. 2900-0154” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, Veterans Benefits Administration (VBA) invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 3034; 3241, 3323(a), 3471, 5101(a); Public Law 96-342, sections 901 and 903; and 10 U.S.C. 16166(b).

Title: Application For VA Education Benefits (VA Form 22-1990); Application For Family Member To Use Transferred Benefits (VA Form 22-1990E); Application For VA Benefits Under The National Call To Service Program (VA Form 22-1990N).

OMB Control Number: 2900-0154.

Type of Review: Revision of a currently approved collection.

Abstract: The claimant uses this form to submit an initial (or “original”) claim for VA education benefits. The information requested on this form helps VA determine the applicant's eligibility to education benefits. To streamline the application process for the claimant, we have divided one large application into three, removing the two least used programs National Call to Service (NCS) Transfer of Entitlement (TOE) and developed separate applications for those programs, the VA Form 22-1990E and VA Form 22-1990N.

Affected Public: Individual and households.

Estimated Annual Burden: 248,916 hours.

Estimated Average Burden per Respondent:20 minutes (Electronic Submissions); 15 minutes (Paper Submissions).

Frequency of Response: Once.

Estimated Number of Respondents: 807,296.

By direction of the Secretary.
Danny S. Green,
Interim VA Clearance Officer, Office of Quality, Performance and Risk, Department of Veterans Affairs.

[FR Doc. 2019-17147 Filed 8-9-19; 8:45 am]

BILLING CODE 8320-01-P